DEPARTMENT OF HEALTH AND HUMAN SERVICES

Food and Drug Administration

[Docket No. 2004N-0226]

Food and Drug Administration Modernization Act of 1997: Modifications to the List of Recognized Standards, Recognition List Number: 017

AGENCY: Food and Drug Administration, HHS.

ACTION: Notice.

SUMMARY: The Food and Drug Administration (FDA) is announcing a publication containing modifications the agency is making to the list of standards FDA recognizes for use in premarket reviews (FDA recognized consensus standards). This publication, entitled “Modifications to the List of Recognized Standards, Recognition List Number: 017” (Recognition List Number: 017), will assist manufacturers who elect to declare conformity with consensus standards to meet certain requirements for medical devices.

DATES: Submit written or electronic comments concerning this document at any time. See section VII of this document for the effective date of the recognition of standards announced in this document.

ADDRESSES: Submit written requests for single copies of “Modifications to the List of Recognized Standards, Recognition List Number: 017” to the Division of Small Manufacturers, International and Consumer Assistance, Center for Devices and Radiological Health (HFZ-220), Food and Drug Administration, 1350 Piccard Dr., Rockville, MD 20850. Send two self-addressed adhesive labels to assist that office in processing your requests, or fax your request to 240-276-3151. Submit written comments concerning this document, or recommendations for additional standards for recognition, to the contact person (see FOR FURTHER INFORMATION CONTACT). Submit electronic comments by e-mail: standards@cdrh.fda.gov. This document may also be accessed on FDA's Internet site at http://www.accessdata.fda.gov/scripts/cdrh/cfdocs/cfTopic/cdrhnew.cfm. See section VI of this document for electronic access to the searchable database for the current list of FDA recognized consensus standards, including Recognition List Number: 017 modifications and other standards related information.

FOR FURTHER INFORMATION CONTACT: Carol L. Herman, Center for Devices and Radiological Health (HFZ-84), Food and Drug Administration, 2098 Gaither Road, Rockville, MD 20850, 240-276-0533.

I. Background

Section 204 of the Food and Drug Administration Modernization Act of 1997 (FDAMA) (Public Law 105-115) amended section 514 of the Federal Food, Drug, and Cosmetic Act (the act) (21 U.S.C. 360d). Amended section 514 allows FDA to recognize consensus standards developed by international and national organizations for use in satisfying portions of device premarket review submissions or other requirements.

In a notice published in the Federal Register of February 25, 1998 (63 FR 9561), FDA announced the availability of a guidance entitled “Guidance on the Recognition and Use of Consensus Standards.” The notice described how FDA would implement its standard recognition program and provided the initial list of recognized standards. Modifications to the initial list of recognized standards, as published in the Federal Register, are identified in table 1 of this document.

Table 1.
Federal Register Cite
October 16, 1998 (63 FR 55617)
July 12, 1999 (64 FR 37546)
November 15, 2000 (65 FR 69022)
May 7, 2001 (66 FR 23032)
January 14, 2002 (67 FR 1774)
October 2, 2002 (67 FR 61893)
April 28, 2003 (68 FR 22391)
March 8, 2004 (69 FR 10712)
June 18, 2004 (69 FR 34176)
October 4, 2004 (69 FR 59240)
May 27, 2005 (70 FR 30756)
November 8, 2005 (70 FR 67713)
March 31, 2006 (71 FR 16313)
June 23, 2006 (71 FR 36121)
November 3, 2006 (71 FR 64718)

These notices describe the addition, withdrawal, and revision of certain standards recognized by FDA. The agency maintains “hypertext markup language (HTML)” and “portable document format (PDF)” versions of the list of “FDA Recognized Consensus Standards.” Both versions are publicly accessible at the agency's Internet site. See section VI of this document for electronic access information. Interested persons should review the supplementary information sheet for the standard to understand fully the extent to which FDA recognizes the standard.

II. Modifications to the List of Recognized Standards, Recognition List Number: 017

FDA is announcing the addition, withdrawal, correction, and revision of certain consensus standards the agency will recognize for use in satisfying premarket reviews and other requirements for devices. FDA will incorporate these modifications in the list of FDA Recognized Consensus Standards in the agency's searchable database. FDA will use the term “Recognition List Number: 017 to identify these current modifications.

In Table 2 of this document, FDA describes the following modifications: (1) The withdrawal of standards and their replacement by others, (2) the correction of errors made by FDA in listing previously recognized standards, and (3) the changes to the supplementary information sheets of recognized standards that describe revisions to the applicability of the standards.

In section III of this document, FDA lists modifications the agency is making that involve the initial addition of standards not previously recognized by FDA.

Table 2.
Old Item No. | Standard | Change | Replacement Item No.
A. Anesthesia
19 | ISO 8382:1988: Resuscitators Intended for Use With Humans | Withdrawn | 71
48 | ASTM F1246-91(2005): Standard Specification for Electrically Powered Home Care Ventilators, Part 1—Positive-Pressure Ventilators and Ventilator Circuits | Withdrawn and replaced with newer version | 70
B. Biocompatibility
57 | ASTM F895-84(2006): Standard Test Method for Agar Diffusion Cell Culture Screening for Cytotoxicity | Withdrawn and replaced with newer version | 115
72 | ASTM F1439-03: Standard Guide for Performance of Lifetime Bioassay for the Tumorigenic Potential of Implant Materials | Withdrawn and replaced with newer version | 116
86 | AAMI/ANSI/ISO 10993-10:2002(E): Biological Evaluation of Medical Devices—Part 10: Tests for Irritation and Sensitization | Withdrawn—duplicate | 87
87 | AAMI/ANSI/ISO 10993-10:2002: Biological Evaluation of Medical Devices—Part 10: Tests for Irritation and Delayed-type Hypersensitivity | Title |
99 | ASTM F1904-98(2003): Standard Practice for Testing the Biological Responses to Particles In Vivo | Title |
C. Dental/Ear, Nose, and Throat (ENT)
60 | ANSI/ADA Specification No. 96:2000: Dental Water-Based Cements | Withdrawn and replaced with newer version | 143
72 | ISO 6877-2006: Dentistry—Root-canal Obturating Points | Withdrawn and replaced with newer version | 137
85 | ANSI/ADA Specification No. 15:2000, Synthetic Polymer Teeth | Withdrawn and replaced with newer version | 138
91 | ANSI/ADA Specification No. 80:2001, Dental Materials—Determination of Color Stability | Title |
114 | ANSI/ADA Specification No. 48:2004, Visible Light Curing Units | Withdrawn and replaced with newer version | 139
D. General
2 | IEC 60601-1, Medical Electrical Equipment—Part 1:General Requirements for Safety | Contact Person |
11 | ISO 2859/1995, Sampling Procedures and Tables for Inspection By Attributes | Contact Person |
12 | ISO 10012/1993, Quality Assurance Requirements for Measuring Equipment Part 1: Metrological Confirmation System for Measuring Equipment | Contact Person |
14 | ANSI Z1.4/1993, Inspection by Attributes | Contact Person |
15 | ANSI Z1.9/1993, Inspection by Variables | Contact Person |
18 | ASTM D-4332/1991, Standard Practice for Conditioning Containers, Packages, or Packaging Components for Testing | Contact Person |
19 | ASTM E-876/1995, Standard Practice for Use of Statistics in the Evaluation of Spectrometric Data | Contact Person |
20 | ASTM F-1140/1988, Standard Test Method for Failure Resistance of Unrestrained and Nonrigid Packages for Medical Applications | Contact Person |
27 | IEC 60601-1-1:2000, Medical Electrical Equipment—Part 1: General Requirement for Safety; Safety Requirements for Medical Electrical Systems | Contact Person |
28 | IEC 60601-1-2, (Second Edition, 2001), Medical Electrical Equipment—Part 1-2: General Requirements for Safety; Electromagnetic Compatibility—Requirements and Tests | Extent of Recognition |
29 | AAMI/ANSI HE74-2001, Human Factors Design Process for Medical Devices | Contact Person |
31 | ISO 15223, Medical Devices—Symbols to be Used With Medical Device Labels, Labeling and Information to be Supplied | Contact Person |
32 | EN 980:1996+1:1999+A2:2001, Graphical Symbols for use in the Labeling of Medical Devices | Contact Person |
35 | AAMI/ANSI/IEC 60601-1-2, Medical Electrical Equipment—Part 1-2: General Requirements for Safety—Collateral standard: Electromagnetic Compatibility—Requirements and Tests (Edition 2:2001 with Amendment 1:2004) (AAMI/ANSI/IEC 60601-1--2:2001 is the U.S. version of IEC 60601-1-2:2001, with identical requirements for electromagnetic compatibility (EMC) of medical electrical equipment.) | Standard Organizations |
E. General Hospital/General Plastic Surgery
114 | ISO 11608-1:2000 Pen-injectors for Medical Use—Part 1: Pen-injectors—Requirements and Test Methods | Contact Person |
115 | ISO 11608-2:2000 Pen-injectors for Medical Use—Part 2: Needles—Requirements and Test Methods | Contact Person |
116 | ISO 11608-3:2000 Pen-injectors for Medical Use—Part 3: Finished Cartridges—Requirements and Test Methods | Contact Person |
66 and 162 | ISO 8536-1:2006 Infusion Equipment for Medical Use—Part 1: Infusion Glass Bottles | Withdrawn and replaced with newer version | 172
53 | ASTM D5151-99 (2006) Standard Test Method for Detection of Holes in Medical Gloves | Withdrawn and replaced with newer version | 175
77 | ASTM F1862-05 Standard Test Method for Resistance of Medical Face Masks to Penetration by Synthetic Blood (Horizontal Projection of Fixed Volume at a Known Velocity) | Withdrawn and replaced with newer version | 181
80 | ASTM E1112-00 (2006) Standard Specification for Electronic Thermometer for Intermittent Determination of Patient Temperature | Withdrawn and replaced with newer version | 177
84 | ASTM D6124-06 Standard Test Method for Residual Powder on Medical Gloves | Withdrawn and replaced with newer version | 178
161 | ISO 10555-1:1995/ Amendment 1:1999, Amendment 2:2004 Sterile, Single-use Intravascular Catheters—Part 1: General Requirements | Title |
85 | ASTM 5250-06 Standard Specification for Poly(vinyl chloride) Gloves for Medical Application | Withdrawn and replaced with newer version | 183
E. In Vitro Diagnostics
91 | CLSI EP7-A2, Interference Testing in Clinical Chemistry; Approved Guidelines—Second Edition | Withdrawn and replaced with newer version | 127
F. Materials
1 | ASTM F67-06: Standard Specification for Unalloyed Titanium for Surgical Implant Applications (UNS R50250, UNS R50400, UNS R50550, UNS R50700) | Withdrawn and replaced with newer version | 129
2 | ASTM F75-01: Standard Specification for Cobalt-28 Chromium-6 Molybdenum Alloy Castings and Casting Alloy for Surgical Implants (UNS R30075) | Contact Person |
3 | ASTM F90-01: Standard Specification for Wrought Cobalt-20 Chromium-15 Tungsten-10 Nickel Alloy for Surgical Implant Applications (UNS R30605) | Contact Person |
10 | ASTM F603-00: Standard Specification for High-Purity Dense Aluminum Oxide for Surgical Implant Application | Contact Person |
11 | ASTM F620-06: Standard Specification for Alpha Plus Beta Titanium Alloy Forgings for Surgical Implants | Withdrawn and replaced with newer version | 130
15 | ASTM F745-00: Standard Specification for 18 Chromium-12.5 Nickel-2.5 Molybdenum Stainless Steel for Cast and Solution-Annealed Surgical Implant Applications | Contact Person |
26 | ASTM F1314-01: Standard Specification for Wrought Nitrogen Strengthened 22 Chromium—13 Nickel—5 Manganese—2.5 Molybdenum Stainless Steel Alloy Bar and Wire for Surgical Implants (UNS S20910) | Contact Person |
27 | ASTM F1341-99: Standard Specification for Unalloyed Titanium Wire UNS R50250, UNS R50400, UNS R50550, UNS R50700, for Surgical Implant Applications | Withdrawn |
30 | ASTM F1537-00: Standard Specification for Wrought Cobalt-28-Chromium-6-Molybdenum Alloy for Surgical Implants (UNS R31537, UNS R31538, and UNS R31539) | Contact Person |
32 | ASTM F1586-02: Standard Specification for Wrought Nitrogen Strengthened 21 Chromium-10 Nickel-3 Manganese-2.5 Molybdenum Stainless Steel Bar for Surgical Implants (UNS S31675) | Contact Person |
37 | ASTM F1813-01: Standard Specification for Wrought Titanium—12 Molybdenum—6 Zirconium—2 Iron Alloy for Surgical Implant (UNS R58120) | Contact Person |
41 | ASTM F2066-01: Standard Specification for Wrought Titanium-15 Molybdenum Alloy for Surgical Implant Applications (UNS R58150) | Contact Person |
43 | ASTM F2146-01: Standard Specification for Wrought Titanium-3Aluminum-2.5Vanadium Alloy Seamless Tubing for Surgical Implant Applications (UNS R56320) | Contact Person |
44 | ASTM F136-02a: Standard Specification for Wrought Titanium-6 Aluminum-4 Vanadium ELI (Extra Low Interstitial) Alloy for Surgical Implant Applications (UNS R56401) | Contact Person |
45 | ASTM F562-02: Standard Specification for Wrought 35Cobalt-35Nickel-20Chromium-10Molybdenum Alloy for Surgical Implant Applications (UNS R30035) | Contact Person |
46 | ASTM F621-02: Standard Specification for Stainless Steel Forgings for Surgical Implants | Contact Person |
47 | ASTM F799-06: Standard Specification for Cobalt-28 Chromium-6 Molybdenum Alloy Forgings for Surgical Implants (UNS R31537, R31538, R31539) | Withdrawn and replaced with newer version | 131
48 | ASTM F899-02: Standard Specification for Stainless Steel for Surgical Instruments | Contact Person |
49 | ASTM F1058-02: Standard Specification for Wrought 40Cobalt-20Chromium-16Iron-15Nickel-7Molybdenum Alloy Wire and Strip for Surgical Implant Applications (UNS R30003 and UNS R30008) | Contact Person |
50 | ASTM F1091-02: Standard Specification for Wrought Cobalt-20 Chromium-15 Tungsten-10 Nickel Alloy Surgical Fixation Wire (UNS R30605) | Contact Person |
52 | ASTM F1350-02: Standard Specification for Wrought 18 Chromium-14 Nickel-2.5 Molybdenum Stainless Steel Surgical Fixation Wire (UNS S31673) | Contact Person |
53 | ASTM F1472-02a: Standard Specification for Wrought Titanium -6Aluminum -4Vanadium Alloy for Surgical Implant Applications (UNS R56400) | Contact Person |
54 | ASTM F1580-01: Standard Specification for Titanium and Titanium-6 Aluminum-4 Vanadium Alloy Powders for Coatings of Surgical Implants | Contact Person |
56 | ISO 5832-1:1997: Implants for Surgery—Metallic materials—Part 1: Wrought Stainless Steel | Contact Person |
57 | ISO 5832-2:1999: Implants for Surgery—Metallic Materials—Part 2: Unalloyed Titanium | Contact Person |
58 | ISO 5832-3:1996: Implants for Surgery—Metallic Materials—Part 3: Wrought Titanium 6-Aluminium 4-Vanadium Alloy | Contact Person |
59 | ISO 5832-4:1996: Implants for Surgery—Metallic Materials—Part 4: Cobalt-chromium-molybdenum Casting Alloy | Contact Person |
61 | ISO 5832-6:1997: Implants for Surgery—Metallic Materials—Part 6: Wrought Cobalt-nickel-chromium-Molybdenum alloy | Contact Person |
62 | ISO 5832-9:1992: Implants for Surgery—Metallic Materials—Part 9: Wrought High Nitrogen Stainless Steel | Contact Person |
63 | ISO 5832-11:1994: Implants for Surgery—Metallic Materials—Part 11: Wrought Titanium 6-aluminium 7 niobium Alloy | Contact Person |
64 | ISO 5832-12:1996: Implants for Surgery—Metallic Materials—Part 12: Wrought Cobalt-chromium-molybdenum Alloy | Contact Person |
66 | ISO 6474:1994: Implants for Surgery—Ceramic Materials Based on High Purity Alumina | Contact Person |
68 | ISO 13782:1996: Implants for Surgery—Metallic Materials—Unalloyed Tantalum for Surgical Implant Applications | Contact Person |
76 | ASTM F138-03: Standard Specification for Wrought 18 Chromium-14 Nickel-2.5 Molybdenum Stainless Steel Bar and Wire for Surgical Implants (UNS S31673) | Contact Person |
77 | ASTM F139-03: Standard Specification for Wrought 18 Chromium-14 Nickel-2.5 Molybdenum Stainless Steel Sheet and Strip for Surgical Implants (UNS S31673) | Contact Person |
79 | ASTM F961-03: Standard Specification for Cobalt-35 Nickel-20 Chromium-10 Molybdenum Alloy Forgings for Surgical Implants [UNS R30035] | Contact Person |
80 | ASTM F1088-04ae1: Standard Specification for Beta-Tricalcium Phosphate for Surgical Implantation | Withdrawn and replaced with newer version | 132
81 | ASTM F1609-03: Standard Specification for Calcium Phosphate Coatings for Implantable Materials | Contact Person |
82 | ASTM F1713-03: Standard Specification for Wrought Titanium-13 Niobium-13 Zirconium Alloy for Surgical Implant Applications | Contact Person |
85 | ASTM F1854-01: Standard Test Method for Stereological Evaluation of Porous Coatings on Medical Implants | Contact Person |
86 | ASTM F1926-03: Standard Test Method for Evaluation of the Environmental Stability of Calcium Phosphate Coatings | Contact Person |
87 | ASTM F1978-00e1: Standard Test Method for Measuring Abrasion Resistance of Metallic Thermal Spray Coatings by Using the Taber Abraser | Contact Person |
88 | ASTM F2024-00: Standard Practice for X-Ray Diffraction Determination of Phase Content of Plasma-Sprayed Hydroxyapatite Coatings | Contact Person |
89 | ASTM F1873-98: Standard Specification for High-Purity Dense Yttria Tetragonal Zirconium Oxide Polycrystal (Y-TZP) for Surgical Implant Applications | Contact Person |
94 | ASTM F601-03: Standard Practice for Fluorescent Penetrant Inspection of Metallic Surgical Implants | Contact Person |
95 | ASTM F629-02: Standard Practice for Radiography of Cast Metallic Surgical Implants | Contact Person |
97 | ASTM F2129-06: Standard Test Method for Conducting Cyclic Potentiodynamic Polarization Measurements to Determine the Corrosion Susceptibility of Small Implant Devices | Withdrawn and replaced with newer version | 133
98 | ASTM F451-99ae1: Standard Specification for Acrylic Bone Cement | Contact Person |
102 | ASTM F2082-06: Standard Test Method for Determination of Transformation Temperature of Nickel-Titanium Shape Memory Alloys by Bend and Free Recovery | Withdrawn and replaced with newer version | 134
103 | ASTM F1801-97(2004): Standard Practice for Corrosion Fatigue Testing of Metallic Implant Materials | Contact Person and Type of Standard |
104 | ASTM F1108-04: Standard Specification for Titanium-6Aluminum-4Vanadium Alloy Castings for Surgical Implants (UNS R56406) | Contact Person |
106 | ASTM F648-04: Standard Specification for Ultra-High-Molecular-Weight Polyethylene Powder and Fabricated Form for Surgical Implants | Contact Person |
107 | ASTM F746-04: Standard Test Method for Pitting or Crevice Corrosion of Metallic Surgical Implant Materials | Contact Person |
108 | ASTM F1295-05: Standard Specification for Wrought Titanium-6 Aluminum-7 Niobium Alloy for Surgical Implant Applications (UNS R56700) | Contact Person |
110 | ASTM F1377-04: Standard Specification for Cobalt-28 Chromium-6 Molybdenum Powder for Coating of Orthopedic Implants (UNS R30075) | Contact Person |
111 | ASTM F1160-05: Standard Test Method for Shear and Bending Fatigue Testing of Calcium Phosphate and Metallic Medical and Composite Calcium Phosphate/Metallic Coatings | Contact Person |
112 | ASTM F1044-05: Standard Test Method for Shear Testing of Calcium Phosphate Coatings and Metallic Coatings | Contact Person |
113 | ASTM F1147-05: Standard Test Method for Tension Testing of Calcium Phosphate and Metal Coatings | Contact Person |
114 | ASTM F2255-05: Standard Test Method for Strength Properties of Tissue Adhesives in Lap Shear by Tension Loading | Contact Person |
115 | ASTM F2256-05: Standard Test Method for Strength Properties of Tissue Adhesives in T-Peel by Tension Loading | Contact Person |
116 | ASTM F2258-05: Standard Test Method for Strength Properties of Tissue Adhesives in Tension | Contact Person |
117 | ASTM F86-04: Standard Practice for Surface Preparation and Marking of Metallic Surgical Implants | Contact Person |
119 | ASTM F688-05: Standard Specification for Wrought Cobalt-35 Nickel-20 Chromium-10 Molybdenum Alloy Plate, Sheet, and Foil for Surgical Implants (UNS R30035) | Contact Person |
120 | ASTM F560-05: Standard Specification for Unalloyed Tantalum for Surgical Implant Applications (UNS R05200, UNS R05400) | Contact Person |
121 | ASTM F2005-05: Standard Terminology for Nickel-Titanium Shape Memory Alloys | Contact Person |
122 | ASTM F2063-05: Standard Specification for Wrought Nickel-Titanium Shape Memory Alloys for Medical Devices and Surgical Implants | Contact Person |
123 | ISO 5832-5:2005: Implants for Surgery—Metallic Materials—Part 5: Wrought Cobalt-chromium-tungsten-nickel Alloy | Contact Person |
125 | ASTM F2004-05: Standard Test Method for Transformation Temperature of Nickel-Titanium Alloys by Thermal Analysis | Contact Person |
126 | ASTM F561-05a: Practice for Retrieval and Analysis of Implanted Medical Devices, and Associated Tissues | Contact Person |
127 | ISO 5834-2:1998: Implants for Surgery—Ultra-High-Molecular-Weight Polyethylene—Part 2: Moulded Forms | Contact Person |
G. OB-GYN/Gastroenterology
35 | ASTM D6324-05 Standard Test Methods for Male Condoms Made from Synthetic Materials | Withdrawn and replaced with newer version | 41
H. Ophthalmic
3 | ISO 9340:1996 Optics and Optical Instruments—Contact lenses—Determination of Strains for Rigid Contact Lenses | Withdrawn |
12 | ISO 11980:1997 Ophthalmic Optics—Contact Lenses and Contact Lens Care Products—Guidance for Clinical Investigations | Contact Person |
13 | ISO 10942:2006 Ophthalmic Instruments—Direct Ophthalmoscopes | Withdrawn and replaced with newer version | 37
15 | ISO 9394:1998 Ophthalmic Optics—Contact Lenses and Contact Lens Care Products—Determination of Biocompatibility By Ocular Study Using Rabbit Eyes | Contact Person |
18 | ISO 10943:2006 Ophthalmic Instruments—Indirect Ophthalmoscopes | Withdrawn and replaced with newer version | 38
20 | ISO 11979-1:2006 Ophthalmic implants—Intraocular Lenses—Part 1: Vocabulary | Withdrawn and replaced with newer version | 40
23 | ISO 11981:1999 Ophthalmic Optics—Contact Lenses And Contact Lens Care Products—Determination of Physical Compatibility of Contact Lens Care Products With Contact Lenses | Contact Person |
24 | ISO 11986:1999 Ophthalmic Optics—Contact Lenses and Contact Lens Care Products—Guidelines for Determination of Preservative Uptake and Release | Contact Person |
34 | ANSI Z80.20-2004 Ophthalmics—Contact Lenses—Standard Terminology, Tolerances, Measurements and Physicochemical Properties | Contact Person |
I. Orthopedic/Physical Medicine
73 | ISO 5838-1:1995: Implants for Surgery—Skeletal Pins and Wires—Part 1: Material and Mechanical Requirements | Contact Person |
74 | ISO 5838-2:1991: Implants for Surgery—Skeletal Pins and Wires—Part 2: Steinmann Skeletal Pins—Dimensions | Contact Person |
75 | ISO 5838-3:1993: Implants for Surgery—Skeletal Pins and Wires—Part 3: Kirschner Skeletal Wires | Contact Person |
79 | ISO 7206-8:1995: Implants for Surgery—Partial and Total Hip Joint Prostheses—Part 8: Endurance Performance of Stemmed Femoral Components With Application of Torsion | Contact Person |
80 | ISO 8828:1988: Implants for Surgery—Guidance on Care and Handling of Orthopaedic Implants | Contact Person |
81 | ISO 9583:1993: Implants for Surgery—Non-destructive Testing—Liquid Penetrant Inspection of Metallic Surgical Implants | Contact Person |
82 | ISO 9584:1993: Implants for Surgery—Non-destructive Testing—Radiographic Examination of Cast Metallic Surgical Implants | Contact Person |
83 | ISO 13402:1995: Surgical and Dental Hand Instruments—Determination of Resistance Against Autoclaving, Corrosion and Thermal Exposure | Contact Person |
121 | ISO 7207-1:1994: Implants for Surgery—Components for Partial and Total Knee Joint Prostheses—Part 1: Classification, Definitions and Designation of Dimensions | Contact Person |
155 | ISO 7207-2:1998: Implants for Surgery—Components for Partial and Total Knee Joint Prostheses—Part 2: Articulating Surfaces Made of Metal, Ceramic and Plastics Materials | Contact Person |
163 | ASTM F543-02e1, Standard Specification and Test Methods for Metallic Medical Bone Screws | Withdrawn and replaced with newer version | 202
166 | ASTM F897-02: Standard Test Method for Measuring Fretting Corrosion of Osteosynthesis Plates and Screws | Contact Person |
167 | ASTM F1089-02: Standard Test Method for Corrosion of Surgical Instruments | Contact Person |
168 | ASTM F1781-03: Standard Specification for Elastomeric Flexible Hinge Finger Total Joint Implants | Contact Person |
171 | ASTM F1814-97a(2003): Standard Guide for Evaluating Modular Hip and Knee Joint Components | Contact Person |
172 | ASTM F1798-97(2003): Standard Guide for Evaluating the Static and Fatigue Properties of Interconnection Mechanisms and Subassemblies Used in Spinal Arthrodesis Implants | Contact Person |
175 | ASTM F1582-98(2003): Standard Terminology Relating to Spinal Implants | Contact Person |
177 | ASTM F1264-03: Standard Specification and Test Methods for Intramedullary Fixation Devices | Contact Person |
178 | ASTM F1440-92(2002): Standard Practice for Cyclic Fatigue Testing of Metallic Stemmed Hip Arthroplasty Femoral Components Without Torsion | Contact Person |
179 | ASTM F2068-03: Standard Specification for Femoral Prostheses—Metallic Implants | Contact Person |
180 | ASTM F366-04: Standard Specification for Fixation Pins and Wires | Contact Person |
181 | ASTM F1717-04: Standard Test Methods for Spinal Implant Constructs in a Vertebrectomy Model | Contact Person |
182 | ASTM F1800-04: Standard Test Method for Cyclic Fatigue Testing of Metal Tibial Tray Components of Total Knee Joint Replacements | Contact Person |
183 | ASTM F1875-98(2004): Standard Practice for Fretting Corrosion Testing of Modular Implant Interfaces: Hip Femoral Head-bore and Cone Taper Interface | Contact Person |
185 | ASTM F2267-04: Standard Test Method for Measuring Load Induced Subsidence of an Intervertebral Body Fusion Device Under Static Axial Compression | Contact Person |
186 | ASTM F2077-03: Test Methods for Intervertebral Body Fusion Devices | Contact Person |
187 | ASTM F2193-02: Standard Specifications and Test Methods for Components Used in the Surgical Fixation of the Spinal Skeletal System | Contact Person |
188 | ISO 14243-1:2002: Implants for Surgery—Wear of Total Knee-joint Prostheses—Part 1: Loading and Displacement Parameters for Wear-testing Machines with Load Control and Corresponding Environmental Conditions for Test | Contact Person |
189 | ISO 14243-2:2000: Implants for Surgery—Wear of Total Knee-joint Prostheses—Part 2: Methods of Measurement | Contact Person |
190 | ISO 14243-3:2004: Implants for Surgery—Wear of Total Knee-joint Prostheses—Part 3: Loading and Displacement Parameters for Wear-Testing Machines with Displacement Control and Corresponding Environmental Conditions for Test | Contact Person |
191 | ISO 14879-1:2000: Implants for Surgery—Total Knee-joint Prostheses—Part 1: Determination of Endurance Properties of Knee Tibial Trays | Contact Person |
192 | ASTM F1223-05: Standard Test Method for Determination of Total Knee Replacement Constraint | Contact Person |
J. Radiology
34 | IEC 60601-2-7 (1998) Medical Electrical Equipment—Part 2-7: Particular Requirements for the Safety of High-Voltage Generators of Diagnostic X-ray Generators | Contact Person |
68 | NEMA MS 4-2006 Acoustic Noise Measurement Procedure for Diagnosing Magnetic Resonance Imaging Devices | Withdrawn and replaced with newer version | 151
101 | ANSI / IESNA RP-27.1-05 Recommended Practice for Photobiological Safety for Lamps and Lamp Systems—General Requirements | Withdrawn and replaced with newer version | 153
104 | IEC 60601-2-33 (2006), Medical Electrical Equipment—Part 2-33: Particular Requirements for the Safety of Magnetic Resonance Equipment for Medical Diagnosis | Withdrawn and replaced with newer version | 161
111 | ISO 11554:2006 Optics and Photonics—Lasers and Laser-Related equipment—Test Methods for Laser Beam Power, Energy and Temporal Characteristics | Withdrawn and replaced with newer version | 155
K. Software
1 | ISO/IEC 12207:1995 Information Technology—Software Life Cycle Processes | Withdrawn |
3 | IEEE/EIA 12207.0-1996 Industry Implementation of International Standard ISO/IEC 12207:1995(ISO/IEC 12207) Standard for Information Technology—Software Life Cycle Processes | Withdrawn |
5 | IEEE 1074-1997 Standard for Developing a Software Project Life Cycle Process | Withdrawn |
6 | IEEE 1012-2004 Standard for Software Verification and Validation | Withdrawn |
7 | AAMI / ANSI SW68:2001 Medical Device Software—Software Life Cycle Processes | Withdrawn |
L. Sterility
67 | ASTM F1140-2005, Standard Test Methods for Internal Pressurization Failure Resistance of Unrestrained Packages for Medical Applications | Withdrawn and replaced with newer version | 196
68 | ASTM F1585:2000, Standard Guide for Integrity Testing of Porous Barrier Medical Packages | Withdrawn |
69 | ASTM F1608:2004, Standard Test Method for Microbial Ranking of Porous Packaging Materials (Exposure Chamber Method | Withdrawn and replaced with newer version | 197
89 | ASTM F2054-05, Standard Test Method for Burst Testing of Flexible Package Seals Using Internal Air Pressurization Within Restraining Plates | Withdrawn and replaced with newer version | 198
121 | ASTM D4169-05, Standard Practice for Performance Testing of Shipping Containers and Systems | Withdrawn and replaced with newer version | 199
122 | ASTM F88-2006, Standard Test Method for Seal Strength of Flexible Barrier Materials | Withdrawn and replaced with newer version | 200
M. Tissue Engineering
1 | ASTM F2064-00(2006): Standard Guide for Characterization and Testing of Alginates as Starting Materials Intended for use in Biomedical and Tissue-Engineered Medical Products Application | Withdrawn and replaced with newer version | 8

III. Listing of New Entries

In table 3 of this document, FDA provides the listing of new entries and consensus standards added as modifications to the list of recognized standards under Recognition List Number: 017.

Table 3.
Item No. | Title of Standard | Reference No. & Date
A. Anesthesia
71 | Lung Ventilators for Medical use—Particular Requirements for Basic Safety and Essential Performance—Part 5: Gas-powered Emergency Resuscitators | ISO 10651-5:2006
B. Cardiovascular/Neurology
59 | Implants for surgery—Cardiac Pacemakers—Part 3: Low-profile Connectors (IS-1) for Implantable Pacemakers | ISO 5841-3:2000
C. Dental/ENT
140 | Dental Base Metal Casting Alloys—Part 2: Nickel-based Alloys | ISO 6871-2:1994/Amd 1:2005
141 | Dental Base Metal Casting Alloys—Part 1: Cobalt-based Alloys | ISO 6871-1:1994
142 | Dental Base Metal Casting Alloys—Part 1: Cobalt-based Alloys | ISO 6871-1:1994/Amd 1:2005
D. General
36 | Technical Information Report: Medical Devices—Guidance on the Selection of Standards in Support of Recognized Essential Principles of Safety and Performance of Medical Devices, Second Edition | ANSI/AAMI/ISO TIR 16142:2006
E. General Hospital/General Plastic Surgery
170 | Sterile hypodermic syringes for single use—Part 1: Syringes for Manual Use | ISO 7886-1:1993/ Corrigendum 1:1995
171 | Sterile, Single-use Intravascular Catheters- Part 3: Central Venous Catheters | ISO 10555-3:1996/ Corrigendum 1:2002
173 | Infusion Equipment for Medical Use—Part 2: Closures for Infusion Bottles | ISO 8536-2:2001/ Corrigendum 1:2003
174 | Pen-injectors for Medical Use—Part 4: Requirements and Test Methods for Electronic and Electromechanical Pen-injectors | ISO 11608-4:2006
176 | Standard Guide for Assessment of Medical Gloves | ASTM D7103-06
179 | Needle-free Injectors for Medical Use—Requirements and Test Methods | ISO 21649:2006
180 | Standard Specification for Surgical Gowns Intended for Use in Healthcare Facilities | ASTM F2407-06
182 | Medical Electrical Equipment— Part 2-38: Particular Requirements for the Safety of Electrically Operated Hospital Beds | IEC 60601-2-38 1996/Amendment 1:1999
F. In Vitro Diagnostic
128 | Evaluation of Matrix Effects; Approved Guideline—Second Edition | CLSI EP14-A2 2005
129 | Quality Control of Microbiological Transport Systems | CLSI M40-A 2003
G. Materials
135 | Standard Test Method for Burst Strength of Surgical Sealants | ASTM F2392-04
136 | Standard Test Method for Wound Closure Strength of Tissue Adhesives and Sealants | ASTM F2458-05
H. OB-GYN/Gastroenterology
42 | Medical electrical equipment—Part 2: Particular Requirements for the Safety of Endoscopic Equipment | IEC 60601-2-18 (1996) Amendment 1 2000
43 | Rubber Condoms—Guidance on the Use of ISO 4074 in the Quality Management of Natural Rubber Latex Condoms | ISO 16038:2005
I. Ophthalmic
43 | Ophthalmic Implants—Intraocular lenses—Part 8: Fundamental Requirements | ISO 11979-8:2006
J. Radiology
150 | Information Technology—Digital Compression and Coding of Continuous-tone Still Images—Part 1: Requirements and Guidelines | IEC / ISO 10918-1:1994 Technical Corrigendum 1:2005
152 | Medical Electrical Equipment—Part 2-1: Particular Requirements for the Safety of Electron Accelerators in the Range 1 MeV to 50 MeV | IEC 60601-2-1 (1998-06), Amendment 1 2002
154 | Lasers and Laser-related Equipment—Determination of Laser-induced Damage Threshold of Optical Surfaces—Part 3: Assurance of Laser Power (energy) Handling Capabilities | ISO 11254-3:2006
156 | Lasers and Laser-related Equipment—Test Methods for Laser Beam Parameters—Beam Positional Stability | ISO 11670:2003 Technical Corrigendum 1:2004
157 | Optics and Optical Instruments—Lasers and Laser-related Equipment—Test Methods for Laser Beam Power (energy) Density Distribution | ISO 13694:2000 Technical Corrigendum 1:2005
158 | Determination of Local Specific Absorption Rate (SAR) in Diagnostic Magnetic Resonance Imaging | NEMA MS 10-2006
159 | Determination of Gradient-Induced Electric Fields In Diagnostic Magnetic Resonance Imaging | NEMA MS 11-2006
160 | Quantification and Mapping of Geometric Distortion for Special Applications | NEMA MS 12-2006

IV. List of Recognized Standards

FDA maintains the agency's current list of FDA recognized consensus standards in a searchable database that may be accessed directly at FDA's Internet site at http://www.accessdata.fda.gov/scripts/cdrh/cfdocs/cfStandards/search.cfm. FDA will incorporate the modifications and minor revisions described in this notice into the database and, upon publication in the Federal Register, this recognition of consensus standards will be effective. FDA will announce additional modifications and minor revisions to the list of recognized consensus standards, as needed, in the Federal Register once a year, or more often, if necessary.

V. Recommendation of Standards for Recognition by FDA

Any person may recommend consensus standards as candidates for recognition under the new provision of section 514 of the act by submitting such recommendations, with reasons for the recommendation, to the contact person (See FOR FURTHER INFORMATION CONTACT). To be properly considered, such recommendations should contain, at a minimum, the following information: (1) Title of the standard, (2) any reference number and date, (3) name and address of the national or international standards development organization, (4) a proposed list of devices for which a declaration of conformity to this standard should routinely apply, and (5) a brief identification of the testing or performance or other characteristics of the device(s) that would be addressed by a declaration of conformity.

VI. Electronic Access

You may obtain a copy of “Guidance on the Recognition and Use of Consensus Standards” by using the Internet. CDRH maintains a site on the Internet for easy access to information including text, graphics, and files that you may download to a personal computer with access to the Internet. Updated on a regular basis, the CDRH home page includes the guidance as well as the current list of recognized standards and other standards related documents. After publication in the Federal Register, this notice announcing “Modifications to the List of Recognized Standards, Recognition List Number: 017” will be available on the CDRH home page. You may access the CDRH home page at http://www.fda.gov/cdrh.

You may access “Guidance on the Recognition and Use of Consensus Standards,” and the searchable database for “FDA Recognized Consensus Standards” through the hyperlink at http://www.fda.gov/cdrh/stdsprog.html.

This Federal Register document on modifications in FDA's recognition of consensus standards is available at http://www.accessdata.fda.gov/scripts/cdrh/cfdocs/cfTopic/cdrhnew.cfm.

VII. Submission of Comments and Effective Date

Interested persons may submit to the contact person (see FOR FURTHER INFORMATION CONTACT) written or electronic comments regarding this document. Two copies of any mailed comments are to be submitted, except that individuals may submit one paper copy. Comments are to be identified with the docket number found in brackets in the heading of this document. FDA will consider any comments received in determining whether to amend the current listing of modifications to the list of recognized standards, Recognition List Number: 017. These modifications to the list or recognized standards are effective upon publication of this notice in the Federal Register.

Dated: May 10, 2007.
Linda S. Kahan,
Deputy Director, Center for Devices and Radiological Health.

[FR Doc. E7-9718 Filed 5-18-07; 8:45 am]

BILLING CODE 4160-01-S